DEPARTMENT OF LABOR

Employment and Training Administration

[TA-W-42,098]

Pliant Solutions, Fort Edward, NY; Notice of Termination of Investigation

Pursuant to section 221 of the Trade Act of 1974, an investigation was initiated on September 9, 2002, in response to a worker petition which was filed by PACE International Union, AFL-CIO, Local #01-003 on behalf of workers at Pliant Solutions, Fort Edward, New York.

The petitioner has requested that the petition be withdrawn. Consequently, further investigation in this case would serve no purpose, and the investigation has been terminated.

Signed in Washington, DC, this 30th day of October, 2002.
Richard Church,
Certifying Officer, Division of Trade Adjustment Assistance.

[FR Doc. 02-29636 Filed 11-20-02; 8:45 am]

BILLING CODE 4510-30-P